DEPARTMENT OF ENERGY

Federal Energy Regulatory Commission

Combined Notice of Filings

Take notice that the Commission has received the following Natural Gas Pipeline Rate and Refund Report filings:

Filings Instituting Proceedings

Docket Numbers: RP16-1250-000.

Applicants: Equitrans, L.P.

Description: § 4(d) Rate Filing: Negotiated Rate Service Agreement—Range Resources effective 10-1-2016 to be effective 10/1/2016.

Filed Date: 9/26/16.

Accession Number: 20160926-5183.

Comments Due: 5 p.m. ET 10/11/16.

Docket Numbers: RP16-1251-000.

Applicants: Tennessee Gas Pipeline Company, L.L.C.

Description: § 4(d) Rate Filing: Pipeline Safety and Greenhouse Gas Cost Adjustment Mechanism—2016 to be effective 11/1/2016.

Filed Date: 9/27/16.

Accession Number: 20160927-5047.

Comments Due: 5 p.m. ET 10/11/16.

Docket Numbers: RP16-1252-000.

Applicants: DBM Pipeline, LLC.

Description: § 4(d) Rate Filing: Negotiated Rate Filing to be effective 9/28/2016.

Filed Date: 9/27/16.

Accession Number: 20160927-5065.

Comments Due: 5 p.m. ET 10/11/16.

Docket Numbers: RP16-1253-000.

Applicants: Trunkline Gas Company, LLC.

Description: § 4(d) Rate Filing: Revisions to Rate Schedule GPS and GTC OBA to be effective 10/29/2016.

Filed Date: 9/28/16.

Accession Number: 20160928-5030.

Comments Due: 5 p.m. ET 10/11/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-1217-001.

Applicants: Equitrans, L.P.

Description: Tariff Amendment: Allocation, Expansion, and Reservation of Capacity Errata Filing to be effective 10/1/2016.

Filed Date: 9/27/16.

Accession Number: 20160927-5074.

Comments Due: 5 p.m. ET 10/11/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2016.
Nathaniel J. Davis, Sr.,
Deputy Secretary.

[FR Doc. 2016-24108 Filed 10-4-16; 8:45 am]

BILLING CODE 6717-01-P